UNITED STATES INSTITUTE OF PEACE

Sunshine Act Meeting

DATE/TIME: Thursday, September 22, 2005, 9:15 a.m.-3.45 p.m.

LOCATION: 1200 17th Street, NW., Suite 200, Washington, DC 20036-3011.

STATUS: Open Session—Portions may be closed pursuant to Subsection (c) of Section 552(b) of Title 5, United States Code, as provided in subsection 1706(h)(3) of the United States Institute of Peace Act, Public Law 98-525.

AGENDA: September 2005 Board Meeting; Approval of Minutes of the One Hundred Nineteenth Meeting (June 15-17, 2005) of the Board of Directors; Chairman's Report; President's Report; Committee Reports; Fiscal Years 2006 and 2007 Budget Review; Organizational Structure Review; Approval of 2005 Unsolicited and Solicited Grant; Other General Issues.

CONTACT: Tessie Higgs, Executive Office, Telephone: (202) 429-3836.

Dated: September 7, 2005.
Patricia P. Thomson,
Executive Vice President, United States Institute of Peace.

[FR Doc. 05-18181 Filed 9-8-05; 4:07 pm]

BILLING CODE 6820-AR-M